DEPARTMENT OF HOMELAND SECURITY

Customs and Border Protection

Accreditation of R. Markey & Sons, Inc., as a Commercial Laboratory

AGENCY: U.S. Customs and Border Protection, Department of Homeland Security.

ACTION: Notice of accreditation of R. Markey & Sons, Inc., as a commercial laboratory.

SUMMARY: Notice is hereby given that, pursuant to 19 CFR 151.12, R. Markey & Sons, Inc., 5 Hanover Square, 12th Floor, New York, NY 10004, has been accredited to analyze sugar, sugar syrups and confectionery products under Chapter 17 of the Harmonized Tariff Schedule of the United States (HTSUS) for customs purposes, in accordance with the provisions of 19 CFR 151.12. Specifically, R. Markey & Sons has been granted accreditation to perform the following test methods only: (1) Polarization of Raw Sugar, ICUMSA GS 1/2/3-1; (2) The Determination of the Polarization of Raw Sugar Without Wet Lead Clarification, ICUMSA GS 1/2/3-2; (3) Sugar Moisture by Loss of Drying, ICUMSA GS 2/1/3-15; (4) Polarization of White Sugar, ICUMSA GS 2/3-1. Anyone wishing to employ this entity to conduct laboratory analyses should request and receive written assurances from the entity that it is accredited by the U.S. Customs and Border Protection to conduct the specific test requested. Alternatively, inquires regarding the specific test this entity is accredited to perform may be directed to the U.S. Customs and Border Protection by calling (202) 344-1060. The inquiry may also be sent to cbp.labhq@dhs.gov. Please reference the Web site listed below for a complete listing of CBP approved gaugers and accredited laboratories. http://cbp.gov/xp/cgov/import/operations_support/labs_scientific_svcs/commercial_gaugers/.

DATES: The accreditation of R. Markey & Sons, Inc., as a commercial laboratory became effective on June 03, 2009. The next triennial inspection date will be scheduled for June 2012.

FOR FURTHER INFORMATION CONTACT: Anthony Malana, Laboratories and Scientific Services, U.S. Customs and Border Protection, 1300 Pennsylvania Avenue, NW., Suite 1500N, Washington, DC 20229, 202-344-1060.

Dated: December 15, 2009.
Ira S. Reese,
Executive Director, Laboratories and Scientific Services.

[FR Doc. E9-30910 Filed 12-29-09; 8:45 am]

BILLING CODE 9111-14-P